DEPARTMENT OF ENERGY

Federal Energy Regulatory Commission

[Docket Nos. RP00-411-006 and RP01-44-008]

Iroquois Gas Transmission System, L.P.; Notice Compliance Filing

January 30, 2003.

Take notice that on January 28, 2003, Iroquois Gas Transmission System, L.P. (Iroquois) tendered for filing as part of its FERC Gas Tariff, First Revised Volume No. 1, Substitute Original Sheet No. 65C, proposed to become effective November 1, 2002.

Iroquois states that copies of this filing were served on all jurisdictional customers and interested state regulatory agencies and all parties to the proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 10, 2003.

Magalie R. Salas,
Secretary.

[FR Doc. 03-2885 Filed 2-5-03; 8:45 am]

BILLING CODE 6717-01-P